DEPARTMENT OF THE INTERIOR

National Park Service

[NPS-WASO-NAGPRA-NPS0024978; PPWOCRADN0-PCU00RP14.R50000]

Notice of Inventory Completion: University of North Carolina at Chapel Hill, Research Laboratories of Archaeology, Chapel Hill, NC

AGENCY: National Park Service, Interior.

ACTION: Notice.

SUMMARY: The University of North Carolina at Chapel Hill, Research Laboratories of Archaeology, has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the University of North Carolina at Chapel Hill, Research Laboratories of Archaeology. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the University of North Carolina at Chapel Hill, Research Laboratories of Archaeology at the address in this notice by March 26, 2018.

ADDRESSES: Dr. C. Margaret Scarry, Research Laboratories of Archaeology, University of North Carolina, Campus Box 3120, Chapel Hill, NC 27599-3120, telephone (919) 962-6574, email scarry@email.unc.edu.

SUPPLEMENTARY INFORMATION: Notice is here given in accordance with the Native American Graves Protection and Repatriation Act (NAGPRA), 25 U.S.C. 3003, of the completion of an inventory of human remains and associated funerary objects under the control of the University of North Carolina at Chapel Hill, Research Laboratories of Archaeology, Chapel Hill, NC. The human remains and associated funerary objects were removed from multiple counties in the states of Kentucky, North Carolina, and Tennessee.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of North Carolina at Chapel Hill, Research Laboratories of Archaeology, professional staff in consultation with representatives of the Cherokee Nation, Eastern Band of Cherokee Indians, and the United Keetoowah Band of Cherokee Indians in Oklahoma.

History and Description of the Remains

In 1980, human remains representing, at minimum, 1 individual were removed from the Indian Fort Mountain site (15Ma25) in Madison County, KY. The University of North Carolina at Chapel Hill, Research Laboratories of Archaeology (UNC-CH), and Berea College jointly sponsored test excavations at Indian Fort Mountain, a presumed Middle Woodland hilltop enclosure near Berea, Kentucky. These investigations were undertaken by UNC graduate student David Moore. One of the five archeological features excavated (Feature 1) was a thin lens of dark soil that contained 17 small fragments of human bone that were placed in two vials. Moore suggests that these bones may represent a secondary burial within the confines of the stone enclosure. The human remains were transported to UNC-CH for cleaning and storage. No known individual was identified. No associated funerary objects are present.

From 1963 to 1964, human remains representing, at minimum, 13 individuals were removed from the Cane Creek site (31Ml3) in Mitchell County, NC. The site was excavated by archeologists from UNC-CH in 1964, following a period of digging into the site by the landowner. This excavation identified and removed three human burials (designated Burials 1, 2, and 3) and associated artifacts. Forty additional human bone fragments were recovered from the site surface and from test units over the burials. The landowner donated to UNC-CH human bone from 6 additional burials that were dug in 1963. All burials have been assigned to the late Middle Woodland period (A.D. 700-1100) based on artifacts recovered from the site. No known individuals were identified. The 315 associated funerary objects from Burials 2 and 3 include one bone awl and 314 disk and shell beads.

In 1963, human remains representing, at minimum, 1 individual were removed from the Great Tellico site (40Mr75) in Monroe County, TN. Three human bone fragments were collected from the site's surface by UNC-CH archeologist Ed Dolan. The human remains were transported to UNC-CH for cleaning and storage. This site visit was part of a regional survey for a National Science Foundation-funded project to investigate the origins of the Cherokee. Dolan noted that the site had recently been torn up by relic hunters, so it is likely that the bone fragments are from looter-disturbed burials. These human remains likely date to either the Dallas phase (A.D. 1300-1600) or Overhill phase (after A.D. 1600). No known individual was identified. No associated funerary objects are present.

In 1965, human remains representing, at minimum, 1 individual were removed from the Toqua site (40Mr6) in Monroe County, TN. Four human bone fragments were collected by UNC-CH archeologists Brian Egloff and Jeff Reid from the spoil pile of a looter's pit that had been dug into the top of the mound. The human remains were transported to UNC-CH for cleaning and storage. This site visit was part of a regional survey for a National Science Foundation-funded project to investigate the origins of the Cherokee. These human remains likely date to the Dallas phase (A.D. 1300-1600). No known individual was identified. No associated funerary objects are present.

In 1963, human remains representing, at minimum, 3 individuals were removed from the Citico site (40Mr7) in Monroe County, TN. Four human bone fragments were collected from the site's surface by UNC-CH archeologist Ed Dolan. The human remains were transported to UNC-CH for cleaning and storage. This site visit was part of a regional survey for a National Science Foundation-funded project to investigate the origins of the Cherokee. Dolan noted that the site had recently been torn up by relic hunters, so it is likely that the bone fragments are from looter-disturbed burials. These human remains likely date to either the Dallas phase (A.D. 1300-1600) or Overhill phase (after A.D.-1600). No known individuals were identified. No associated funerary objects are present.

In 1935, human remains representing, at minimum, 3 individuals were removed from the R. H. Bell site (40Re1) in Roane County, TN. Four human bone fragments were surface collected from the village area of the site by Joffre Coe during a visit to T. M. N. Lewis' excavation there. The human remains were transported to the University of North Carolina at Chapel Hill and subsequently donated to the Research Laboratories of Archaeology (formerly Laboratory of Anthropology) after its creation in 1939. These human remains likely date to the Dallas phase (A.D. 1300-1600). No known individuals were identified. No associated funerary objects are present.

In 1964, human remains representing, at minimum, 1 individual were removed from the Fudd Campbell site (40Ce3) in Carter County, TN. One human bone fragment was collected from the site's surface by UNC-CH archeologists Bennie Keel and Brian Egloff. The human remains were transported to UNC-CH for cleaning and storage. This site visit was part of a regional survey for a National Science Foundation-funded project to investigate the origins of the Cherokee. Keel noted that the site was in the process of being destroyed by the Tennessee Archaeological Society, so it is likely that the bone fragment is from a disturbed burial. The archeological association of the human bone is unknown. No known individual was identified. No associated funerary objects are present.

In 1966, human remains representing, at minimum, 1 individual were removed from the Great Hiwassee site (40Pk3) in Polk County, TN. Two human bone fragments were collected from the site's surface by UNC-CH archeologist Brian Egloff. The human remains were transported to UNC-CH for cleaning and storage. This site visit was part of a regional survey for a National Science Foundation-funded project to investigate the origins of the Cherokee. Egloff noted that the site had recently been torn up by relic hunters, so it is likely that the bone fragments are from looter-disturbed burials. The archeological association of the human bone is unknown. No known individual was identified. No associated funerary objects are present.

Determinations Made by the University of North Carolina at Chapel Hill

Officials of the University of North Carolina at Chapel Hill have determined that:

• Pursuant to 25 U.S.C. 3001(9), the human remains described in this notice are Native American based on their physical association with Native American cultural remains and occurrence at Native American archeological sites.

• Pursuant to 25 U.S.C. 3001(9), the human remains described in this notice represent the physical remains of a minimum of 24 individuals of Native American ancestry.

• Pursuant to 25 U.S.C. 3001(3)(A), the 315 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation, Eastern Band of Cherokee Indians, and United Keetoowah Band of Cherokee Indians in Oklahoma.

• Treaties, Acts of Congress, or Executive Orders, indicate that the land from which the Native American human remains and associated funerary objects were removed is the aboriginal land of the Cherokee Nation, Eastern Band of Cherokee Indians, and United Keetoowah Band of Cherokee Indians in Oklahoma.

• Pursuant to 43 CFR 10.11(c)(1), the disposition of the human remains and associated funerary objects may be to the Cherokee Nation, Eastern Band of Cherokee Indians, and United Keetoowah Band of Cherokee Indians in Oklahoma.

Additional Requestors and Disposition

Representatives of any Indian Tribe or Native Hawaiian organization not identified in this notice that wish to request transfer of control of these human remains and associated funerary objects should submit a written request with information in support of the request to Dr. C. Margaret Scarry, Research Laboratories of Archaeology, University of North Carolina, Campus Box 3120, Chapel Hill, NC 27599-3120, telephone (919) 962-6574, email scarry@email.unc.edu, by March 26, 2018. After that date, if no additional requestors have come forward, transfer of control of the human remains and associated funerary objects to the Cherokee Nation, Eastern Band of Cherokee Indians, and United Keetoowah Band of Cherokee Indians in Oklahoma may proceed.

The University of North Carolina at Chapel Hill, Research Laboratories of Archaeology is responsible for notifying the Cherokee Nation, Eastern Band of Cherokee Indians, and United Keetoowah Band of Cherokee Indians in Oklahoma that this notice has been published.

Dated: February 2, 2018.
Melanie O'Brien,
Manager, National NAGPRA Program.

[FR Doc. 2018-03631 Filed 2-21-18; 8:45 am]

BILLING CODE 4312-52-P